DEPARTMENT OF THE TREASURY

Submission for OMB Review; Comment Request

May 16, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 26, 2000 to be assured of consideration.

Bureau of Alcohol, Tobacco and Firearms (BATF)

OMB Number: 1512-0205.

Form Number: ATF F 5110.40.

Type of Review: Extension.

Title: Distilled Spirits Records and Monthly Report of Production Operations.

Description: The information collected is used to account for proprietor's tax liability, adequacy of bond coverage and protection of the revenue. The information also provides data to analyze trends in the industry, and plan efficient allocation of field resources, audit plant operations and compilation of statistics for government economic analysis.

Respondents: Business of other for-profit.

Estimated Number of Respondents: 150.

Estimated Burden Hours Per Respondent: 2 hours.

Frequency of Response: On occasion.

Estimated Total Reporting Burden: 3,600 hours.

OMB Number: 1512-0247.

Recordkeeping Requirement ID Number: ATF REC 5000/2.

Type of Review: Extension.

Title: Manufacturers of Ammunition, Records and Supporting Data of Ammunition Manufactured and Disposed of.

Description: These records are used by ATF in criminal investigations and compliance inspections in fulfilling the Bureau's mission to enforce the Gun Control Law.

Respondents: Business or other for-profit.

Estimated Number of Recordkeepers: 50.

Estimated Burden Hours Per Recordkeeper: 15 minutes.

Frequency of Response: On occasion.

Estimated Total Recordkeeping Burden: 325 hours.

OMB Number: 1512-0292.

Recordkeeping Requirement ID Number: ATF REC 5120/2.

Type of Review: Extension.

Title: Letterhead Applications and Notices Relating to Wine.

Description: Letterhead applications and notices relating to wine are required to ensure that the intended activity will not jeopardize the revenue or defraud consumers.

Respondents: Business or other for-profit.

Estimated Number of Respondents: 1,650.

Estimated Burden Hours Per Respondent: 30 minutes.

Frequency of Response: On occasion.

Estimated Total Reporting Burden: 825 hours.

OMB Number: 1512-0335.

Recordkeeping Requirement ID Number: ATF REC 5150/4.

Type of Review: Extension.

Title: Letterhead Applications and Notices Relating to Tax-Free Alcohol.

Description: Tax-free alcohol is used for nonbeverage purposes in scientific research and medicinal uses by educational organizations, hospitals, laboratories, etc. Permits/Applications control authorized uses and flow. Protect tax revenue and public safety.

Respondents: Not-for-profit institutions, Federal Government, State, Local or Tribal Government.

Estimated Number of Recordkeepers: 4,444.

Estimated Burden Hours Per Recordkeeper: 30 minutes.

Frequency of Response: On occasion.

Estimated Total Recordkeeping Burden: 2,222 hours.

OMB Number: 1512-0512.

Form Number: None.

Type of Review: Extension.

Title: Notices Relating to Payment of Firearms and Ammunition Excise Tax.

Description: Excise taxes are collected on the sale or use of firearms and ammunition by firearms or ammunition manufacturers, importers or producers. Taxpayers who elect to pay excise taxes by electronic fund transfer must furnish a written notice upon election and discontinuance. Tax revenue will be protected.

Respondents: Business or other for-profit.

Estimated Number of Respondents: 10.

Estimated Burden Hours Per Respondent: 6 minutes.

Frequency of Response: On occasion.

Estimated Total Reporting Burden: 1 hour.

OMB Number: 1512-0540.

Form Number: ATF REC 5120/11.

Type of Review: Extension.

Title: Information Collection in Support of Small Producer's Wine Tax Credit.

Description: ATF needs this information to insure proper tax credit. The information is used by taxpayers in preparing their returns and by ATF to verify tax computation. Recordkeepers are wine producers who want to transfer their credit to warehouse operators and the transferees who take such credit.

Respondents: Business or other for-profit.

Estimated Number of Recordkeepers: 280.

Estimated Burden Hours Per Recordkeeper: None.

Estimated Total Recordkeeping Burden: 1 hour.

Clearance Officer: Robert N. Hogarth (202) 927-8930, Bureau of Alcohol, Tobacco and Firearms, Room 3200, 650 Massachusetts Avenue, NW., Washington, DC 20226.

OMB Reviewer: Alexander T. Hunt (202) 395-7860, Office of Management and Budget, Room 10202, New Executive Office Building, Washington, DC 20503.

Lois K. Holland,
Departmental Reports, Management Officer.

[FR Doc. 00-13116 Filed 5-24-00; 8:45 am]

BILLING CODE 4810-31-U